DEPARTMENT OF COMMERCE

National Oceanic and Atmospheric Administration

[RTID 0648-XF332]

Western Pacific Fishery Management Council; Public Meetings

AGENCY: National Marine Fisheries Service (NMFS), National Oceanic and Atmospheric Administration (NOAA), Commerce.

ACTION: Notice of public meeting.

SUMMARY: The Western Pacific Fishery Management Council (Council) will hold its Fishing Industry Advisory Committee (FIAC), American Samoa Archipelago Fishery Ecosystem Plan (FEP) Advisory Panel (AP), Mariana Archipelago FEP Commonwealth of the Northern Mariana Islands (CNMI) AP, Hawaii Archipelago and Pacific Remote Island Areas (PRIA) FEP AP, and Mariana Archipelago FEP Guam AP to discuss and make recommendations on fishery management issues in the Western Pacific Region.

DATES: The meetings will be held between November 24, 2025, and December 6, 2025. For specific times and agendas, see SUPPLEMENTARY INFORMATION.

ADDRESSES: The Council will hold its FIAC, American Samoa Archipelago FEP AP, Hawaii Archipelago and PRIA FEP AP, Mariana Archipelago FEP CNMI AP, and Mariana Archipelago FEP Guam AP meetings in a hybrid format with in-person and remote participation (Webex) options available for the members and the public. In person attendance (for members and public) for the Hawaii Archipelago and PRIA FEP AP, and FIAC meetings will be hosted at the Council Office, 1164 Bishop St., Suite 1400, Honolulu, Hawaii 96813. In-person attendance for the American Samoa Archipelago FEP AP and public will be hosted at the Tedi of Samoa, Suite 208B, P8C6+V2F, Fagotogo Village, AS 96799. In-person attendance for the Mariana Archipelago FEP CNMI AP and public will be hosted at BRI Building, Suite 205, Kopa Di Oru St., Garapan, Saipan 96950. In-person attendance for the Mariana Archipelago FEP Guam AP and public will be hosted at Cliff Pointe, 304 W. O'Brien Drive, Hagatña, GU 96910. Instructions for connecting to the web conference and providing oral public comments will be posted on the Council website at www.wpcouncil.org. For assistance with the web conference connection, contact the Council office at (808) 522-8220.

FOR FURTHER INFORMATION CONTACT: Contact Kitty M. Simonds, Executive Director, Western Pacific Fishery Management Council; phone: (808) 522-8220.

SUPPLEMENTARY INFORMATION: The FIAC will be held between 2 p.m. and 5 p.m. (Hawaii Standard Time [HST]) on Monday, November 24, 2025. The American Samoa FEP AP will be held between 6 p.m. and 8 p.m. (Samoa Standard Time [SST]) on Tuesday, December 2, 2025. The Mariana Archipelago FEP CNMI AP will be held between 6 p.m. and 8 p.m. (Chamorro Standard Time [ChST]) on Thursday, December 4, 2025. The Hawaii Archipelago and PRIA FEP AP will be held between 9 a.m. and 1 p.m. (HST) on Friday, December 5, 2025. The Mariana Archipelago FEP Guam AP will be held between 10 a.m. and 12 p.m. noon (ChST) on Saturday, December 6, 2025.

Public Comment periods will be provided in the agendas. The order in which agenda items are addressed may change. The meetings will run as late as necessary to complete scheduled business.

Schedule and Agenda for the FIAC Meeting

Monday, November 24, 2025, 2 p.m. to 5 p.m. (HST)

1. Welcome and Introductions

2. Status Report on Previous FIAC Recommendations

3. Roundtable Update on Fishing/Market Issues/Impacts

4. Options for Removing Federal Fishing Prohibitions in the Marianas Trench, Rose Atoll, and Papahānaumokuākea Marine National Monuments (MNM)

5. Recommendations on Commercial Fishing in the Pacific Islands Heritage MNM

6. Recent Legislation

7. Deep Set Longline Biological Opinion Review

8. Update on Electronic Monitoring Implementation

9. Upcoming Western and Central Pacific Fishery Commission Meeting and Industry Issues

10. Council Inflation Reduction Act (IRA) Project Updates

A. Scenario Planning

B. Regulatory Review

C. Protected Species

D. Community Consultation

11. Other Business

12. Public Comment

13. Discussion and Recommendations

Schedule and Agenda for the American Samoa Archipelago FEP AP Meeting

Tuesday, December 2, 2025, 6 p.m. to 8 p.m. (SST)

1. Welcome and Introductions

2. Review of the Last AP Recommendation and Meeting

3. Council Fisheries Issues

A. Recommendations on Commercial Fishing in the Pacific Islands Heritage MNM

B. Options for Removing Federal Fishing Prohibitions in the Rose Atoll MNM

4. Council Inflation Reduction Act (IRA) Project Update

A. Scenario Planning

B. Regulatory Review

C. Protected Species

D. Community Consultation

5. Magnuson Stevens Act Research (MSRA) Priorities Review Update

6. American Samoa Territorial Fishery Management Plan

7. Update on Deep Sea Mining Bureau of Ocean Energy Management Visit

8. AP Strategic Planning for 2025

9. Other Business

10. Public Comment

11. Discussion and Recommendations

Schedule and Agenda for the Mariana Archipelago FEP CNMI AP Meeting

Thursday, December 4, 2025, 6 p.m. to 8 p.m. (ChST)

1. Welcome and Introductions

2. Review of the Last AP Recommendation and Meeting

3. Council Fisheries Issues

A. Options for Commercial Fishing in the Marianas Trench MNM

B. CNMI Bottomfish Annual Catch Limit Specifications for 2026 to 2029

4. Council IRA Project Update

A. Scenario Planning

B. Regulatory Review

C. Protected Species

D. Community Consultation

5. MSRA Priorities Review

6. AP Strategic Planning for 2025

7. Other Business

8. Public Comment

9. Discussion and Recommendations

Schedule and Agenda for the Hawaii Archipelago and PRIA FEP AP Meeting

Friday, December 5, 2025, 9 a.m. to 1 p.m. (HST)

1. Welcome and Introductions

2. Review of the Last AP Recommendation and Meeting

3. Council Fisheries Issues

A. Recommendations on Commercial Fishing in the Pacific Islands Heritage MNM

B. Options for Fishing Prohibitions in the Papahānaumokuākea MNM

4. Council IRA Project Update

A. Scenario Planning

B. Regulatory Review

C. Protected Species

D. Community Consultation

5. MSRA Priorities Review

6. State of Hawaii Holomua Maui and Hawaii Island Update

7. AP Strategic Planning for 2025

8. Other Business

9. Public Comment

10. Discussion and Recommendations

Schedule and Agenda for the Mariana Archipelago FEP Guam AP Meeting

Saturday, December 6, 2025, 10 a.m. to 12 p.m. (ChST)

1. Welcome and Introductions

2. Review of the Last AP Recommendation and Meeting

3. Council Fisheries Issues

A. Options for Commercial Fishing in the Marianas Trench MNM

4. Council IRA Project Update

A. Scenario Planning

B. Regulatory Review

C. Protected Species

D. Community Consultation

5. MSRA Priorities Review

6. Guam Territorial Fishery Management Plan

7. AP Strategic Planning for 2025

A. Guam Military Working Group Update

8. Other Business

9. Public Comment

10. Discussion and Recommendations

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: November 14, 2025.
Rey Israel Marquez,
Acting Deputy Director, Office of Sustainable Fisheries, National Marine Fisheries Service.

[FR Doc. 2025-20173 Filed 11-17-25; 8:45 am]

BILLING CODE 3510-22-P